DEPARTMENT OF TRANSPORTATION

Office of the Secretary

Aviation Proceedings, Agreements Filed During the Week Ending June 28, 2002

The following Agreements were filed with the Department of Transportation under the provisions of 49 U.S.C. Sections 412 and 414. Answers may be filed within 21 days after the filing of the application.

Docket Number: OST-2002-12564.

Date Filed: June 24, 2002.

Parties: Members of the International Air Transport Association.

Subject: CAC/30/Meet/004/02 dated April 29, 2002, r-1—Expedited Resolution 801r, CAC/30/Meet/005/02 dated May 8, 2002, r-2—Expedited Resolution 851, r-3—Expedited Resolution 853, Intended effective date: expedited for June 1/July 1, 2002.

Docket Number: OST-2002-12700.

Date Filed: June 28, 2002.

Parties: Members of the International Air Transport Association.

Subject: CTC COMP 0394 dated 21 June 2002 and CTC COMP 0401 dated 25 June 2002 (technical correction), CTC COMP 0397 dated 21 June 2002, Cargo Resolutions except to/from USA/US Territories (r1-r37), Minutes—CTC COMP 0400 dated 25 June, Intended effective date: 1 October 2002.

Dorothy Y. Beard,
Federal Register Liaison.

[FR Doc. 02-17746 Filed 7-12-02; 8:45 am]

BILLING CODE 4910-62-P